DEPARTMENT OF ENERGY

Federal Energy Regulatory Commission

[Docket No. RM19-12-000]

Revisions to the Filing Process for Commission Forms; Supplemental Notice of Technical Conference

This Supplemental Notice establishes the agenda for the technical conference to be held March 24 through March 26, 2020, beginning each day at 9:00 a.m. Eastern Time, related to the use of XBRL for form submissions. This conference will be held electronically via webcast. The details for participating are detailed below. The agenda outlines the topics and specific forms to be discussed on each day.

On January 13, 2020, a notice was issued in the above-captioned proceeding announcing that a technical conference would be rescheduled and held on March 24 through March 26, 2020. On March 13, 2020, a notice was issued announcing that the technical conference will no longer be an in-person conference. All interested persons are invited to participate and access the conference via webcast using the instructions outlined below.

During the conference, Commission staff will discuss the draft FERC XBRL Taxonomy and related documents, which are available on the eForms Refresh website at https://www.ferc.gov/docs-filing/forms/forms-refresh.asp, as well as issues related to the transition to XBRL, including the implementation schedule. In addition, a revised FERC XBRL Taxonomy, with revisions based on the comments received through the Yeti review tool, will be released on the FERC XBRL Forms Refresh website prior to the commencement of the technical conference and will be discussed at the conference. Commission staff requests that suggestions for other discussion topics be emailed to XBRLFormsRefresh@ferc.gov.

All people interested in participating in the conference must register at the following link: https://www.ferc.gov/whats-new/registration/03-24-20-form.asp by no later than noon on March 23, 2020. There is no registration fee. This registration will help facilitate hosting the conference via webcast. Anyone with internet access can join the meeting by navigating to the Calendar of Events on www.ferc.gov, locating the Revisions to the Filing Process for Commission Forms Technical Conference on the Calendar, and clicking on the link to the webcast. The webcast will allow persons to view the technical conference presentations; however, attendees will need to dial in by phone to access a conference line for the audio. Please follow the instructions that will be available by using the link to the technical conference when it is published on www.ferc.gov, or by using the eForms Refresh website at https://www.ferc.gov/docs-filing/forms/forms-refresh.asp. Also, to enable the presentations to be heard clearly by all participants, please place your individual phone on mute immediately upon dialing in to the conference call number. All interested parties can email questions during the conference to XBRLFormsRefresh@ferc.gov. Commission staff will address questions to the extent possible during the presentations or respond to the questions after the conference via email.

Following this online technical conference, if the Commission considers it necessary to schedule an additional conference, another notice will be issued to announce such a conference. Participants will be able to file comments in the above-captioned docket following the technical conference.

The conference will be transcribed. Transcripts will be available immediately for a fee from Ace Reporting (202-347-3700).

Commission conferences are accessible under section 508 of the Rehabilitation Act of 1973. For accessibility accommodations, please send an email to accessibility@ferc.gov or call toll free 1-866-208-3372 (voice) or 202-208-8659 (TTY), or send a fax to 202-208-2106 with the requirement accommodations.

For more information about this technical conference, please contact Robert Hudson at Robert.Hudson@ferc.gov or (202) 502-6889, or email XBRLFormsRefresh@ferc.gov. For information related to logistics, please contact Sarah McKinley at Sarah.McKinley@ferc.gov or (202) 502-8368.

Dated: March 18, 2020.
Kimberly D. Bose,
Secretary.

Revisions to the Filing Process for Commission Forms

Technical Conference

Commission Meeting Room

Tuesday, March 24, 2020, 9:00 a.m.-5:00 p.m.

Agenda

9:00 a.m.-5:00 p.m.

Introduction and General Demonstration

eForms System and Common Items Between eForms

Form Nos. 1, 1-F, 3-Q (Electric)

• Format Enhancements

• Implementation Timeline

• Comments and Inquiries Received through Yeti

• Questions Emailed to XBRLFormsRefresh@ferc.gov

Wednesday, March 25, 2020, 9:00 a.m.-5:00 p.m.

Agenda

9:00 a.m.-5:00 p.m.

Introduction

Continuation of Form Nos. 1, 1-F, 3-Q (Electric) Discussion (if needed)

Form No. 60

• Company Registration and Company Identifiers

• Format Enhancements

• Implementation Timeline

• Comments and Inquiries Received through Yeti

• Questions Emailed to XBRLFormsRefresh@ferc.gov

Form No. 714

• Company Registration and Company Identifiers

• Format Enhancements

• Implementation Timeline

• Questions Emailed to XBRLFormsRefresh@ferc.gov

Thursday, March 26, 2020, 9:00 a.m.-5:00 p.m.

Agenda

9:00 a.m.-5:00 p.m.

Introduction

Form Nos. 2, 2-A, 3-Q (Natural Gas)

• Format Enhancements

• Implementation Timeline

• Comments and Inquiries Received through Yeti

• Questions Emailed to XBRLFormsRefresh@ferc.gov

Form Nos. 6, 6-Q

• Format Enhancements

• Implementation Timeline

• Comments and Inquiries Received through Yeti

• Questions Emailed to XBRLFormsRefresh@ferc.gov

[FR Doc. 2020-06138 Filed 3-23-20; 8:45 am]

BILLING CODE 6717-01-P